FEDERAL COMMUNICATIONS COMMISSION

Public Information Collections Approved by Office of Management and Budget

January 30, 2001.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0971.

Expiration Date: 07/31/2001.

Title: Numbering Resource Optimization, Second Report and Order, Order on Reconsideration in CC Docket No. 96-98 and CC Docket 99-200, and Second Further Notice of Proposed Rulemaking in CC Docket No. 99-200.

Form No.: N/A.

Respondents: Business or other for-profit; State, Local or Tribal Government.

Estimated Annual Burden: 50,500 respondents; .035 hours per response (avg.); 14,000 total annual burden hours.

Estimated Annual Reporting and Recordkeeping Cost Burden: $0.

Frequency of Response: On occasion; Third party disclosure.

Description: In the Second Report and Order issued in CC Dockets 96-98 and 99-200, released December 29, 2000, the Commission continues to implement numbering resource optimization measures, using its authority under section 251(e) of the Communications Act of 1934, as amended by the Telecommunications Act of 1996. In this proceeding, the Commission has adopted two new requirements. Carriers that report forecast and utilization data semi-annually to the North American Numbering Plan Administrator (NANPA) or the Pooling Administrator must duplicate such data for state commissions upon request. Carriers will be denied numbering resources if they fail to comply with such state commissions' requests. In addition, to request a “for cause” audit of a carrier, the NANPA, the Pooling Administrator or a state commission must draft a request to the auditor stating the reason for the request, such as misleading or inaccurate data, and attach supporting documentation. The information will be used by the FCC, state commissions, the NANPA and/or the Pooling Administrator to verify the validity and accuracy of such data and to assist state commission in carrying out their numbering responsibilities, such as area code relief. Obligation to respond: Required to obtain or retain benefits.

OMB Control No.: 3060-0782.

Expiration Date: 01/31/2004.

Title: Petitions for Limited Modification of LATA Boundaries to Provide Expanded Local Calling Service (ELCS) at Various Locations.

Form No.: N/A.

Respondents: Business or other for-profit.

Estimated Annual Burden: 100 respondents; 8 hours per response (avg.).; 800 total annual burden hours.

Estimated Annual Reporting and Recordkeeping Cost Burden: $0.

Frequency of Response: On occasion.

Description: In a Memorandum Opinion and Order issued in CC Docket No. 96-159, released July 27, 1997, the Commission provided voluntary guidelines for filing expanded local calling service (ELCS) requests. The guidelines ask that each ELCS request include the following information: (1) Type of proposed service; (2) direction of proposed service; (3) telephone exchanges involved; (4) names of affected carriers; (5) state commission approval; (6) number of access lines or customers; (7) usage data; (8) poll results if any; (9) community of interest statement; (10) a map showing exchanges and LATA boundary involved; and (11) any other pertinent information. The requested information is used by the Commission to determine whether the need for the proposed ELCS routes outweighs the risk of potential anti-competitive effects, and thus whether requests for limited modifications of LATA boundaries should be granted. Obligation to respond: Voluntary.

OMB Control No.: 3060-0786.

Expiration Date: 01/31/2004.

Title: Petitions for LATA Association Changes by Independent Telephone Companies.

Form No.: N/A.

Respondents: Business or other for-profit.

Estimated Annual Burden: 20 respondents; 6 hours per response (avg.).; 120 total annual burden hours.

Estimated Annual Reporting and Recordkeeping Cost Burden: $0.

Frequency of Response: On occasion.

Description: In a Memorandum Opinion and Order issued in CC Docket No. 96-158, released August 6, 1997, the Commission pursuant to the provisions of the Communications Act of 1934, as amended requests that independent telephone companies (ITCs) and Bell Operating Companies (BOCs) provide certain information to the Commission regarding ITC requests for changes in local access and transport area association and modification of LATA boundaries to permit the change in association. The Commission provided voluntary guidelines to assist ITCs in filing petitions for changes in LATA association and connected modification of LATA boundaries. The guidelines ask that each LATA association change request include the following information: (1) Type of request; (2) exchange information; (3) number of access lines or customers; (4) public interest statement; (5) a map showing exchanges and LATA boundaries involved; (6) a list of extended local calling service routes between the independent exchange and the LATA with which it is currently associated; and (7) a BOC supplement requesting a modification of the LATA boundary. The requested information is used by the Commission to determine whether the need for the proposed changes in LATA association outweighs the risk of potential anti-competitive effects, and thus whether requests for changes in LATA association and connected modifications of LATA boundaries should be granted. Obligation to respond: Voluntary.

OMB Control No.: 3060-0895.

Expiration Date: 01/31/2004.

Title: Numbering Resource Optimization, CC Docket No. 99-200.

Form No.: FCC Form 502.

Respondents: Business or other for-profit; State, Local or Tribal Government.

Estimated Annual Burden: 2780 respondents; 1-44.4 hours per response; 181,890 total annual burden hours.

Estimated Annual Reporting and Recordkeeping Cost Burden: $7,858,650.

Frequency of Response: On occasion; Semi-annually; One time; Recordkeeping; Third party disclosure.

Description: Under the Communications Act of 1934, as amended by the Telecommunications Act of 1996, the Commission was given exclusive jurisdiction over those portions of the North American Numbering Plan that pertain to the United States. Pursuant to that authority the Commission conducted a rulemaking that among other things addressed regular reporting on numbering use by United States carriers. In its Report and Order in CC Docket No. 99-200, released March 31, 2000, the Commission found that mandatory data collection is necessary to efficiently monitor and manage numbering use. Requirements adopted in the Report and Order include the following: (a) Utilization/Forecast Report—All carriers that receive numbering resources from the NANPA or that receive numbering resources from a Pooling Administrator in thousands-blocks must report forecast and utilization data semi-annually to the NANPA. Carriers that receive intermediate numbers must report forecast and utilization data semiannually to the NANPA. Carriers whose forecast and utilization data have not changed from the previous reporting period may simply re-file the prior submission and indicate that there has been no change since the last reporting, i.e., report “no change.” All carriers are required to file their data electronically via FCC Form 502. (No. of respondents: 2700; hours per response: 44.4 hours; total annual burden: 119,880 hours). (b) Application for Initial Numbering Resources—Applications for initial numbering resources must include documentation proof that (1) the applicant is authorized to provide service in the area for which the numbering resources are requested and (2) the applicant is or will be capable of providing service within 60 days of the numbering resources activation date. Specifically, carriers must provide, as part of the applications for initial numbering resources, evidence (e.g., state commission order or state certification to operate as a carrier) demonstrating that they are licensed and/or certified to provide service in the area in which they seek numbering resources. Carriers requesting initial numbering resources must also provide to the NANPA appropriate evidence (e.g., contracts for unbundled network elements, network information showing that equipment has been purchased and that it is operational or will be operational, business plans, or interconnection agreements) that its facilities are in place or will be in place to provide service within 60 days of the numbering resources activation date. These requirements apply to carriers requesting an initial NXX code and those requesting an initial thousands-block. See 47 CFR 52.15(g). (No. respondents: 2730; hours per response: 2; total annual burden: 5460 hours). c. Application for Growth Numbering Resources—Applications for growth numbering resources must include a Months-To-Exhaust (MTE) worksheet. To ensure that carriers obtain numbering resources when and where they are needed to provide service, carriers are required to provide evidence that, given their current utilization and recent historical growth, they need additional numbering resources. Non-pooling carriers must satisfy a minimum utilization threshold before obtaining additional numbering resources. See 47 CFR 52.15(g). (No. of respondents: 1700; hours per response: 2 hours; total annual burden: 3400 hours). d. Recordkeeping Requirement—To facilitate auditing by the NANPA and by state commissions in the future, carriers are required to maintain detailed internal records of their number usage in categories more granular than the five for which they are required to report. Carriers are required to maintain internal records of their numbering resources for the following subcategories: soft dialtone numbers; ported-out numbers; dealer number pools; test numbers; employee/official numbers; Local Routing Numbers; Temporary Local Directory Numbers; and wireless E911 emergency services routing digits/key numbers. Carriers are required to maintain these data for a period of not less than 5 years. See also, Report and Order, para. 62. (No. of respondents: 2730; hours per response: 1 hour; total annual burden: 2730 hours). e. Notifications by State Commissions—State commissions may reduce the reporting frequency for NPAs in their states to annual. State commissions must notify the Common Carrier Bureau and the NANPA prior to exercising this delegated authority. See 47 CFR 52.15(g). (No. of respondents: 50; hours per response: 1 hour; total annual burden: 50 hours). f. Demonstration to State Commission—Carriers that open a clean thousands-block prior to utilizing in its entirety a previously-opened thousands-block should be prepared to demonstrate to the state commission: (1) a genuine request from a customer detailing the specific need for telephone numbers; (2) the inability on the part of the carrier to meet the specific customer request for telephone numbers from the supply of numbers within the carrier's currently activated thousands-block. See 47 CFR 52.15(j). (No. of respondents: 850; hours per response: 1 hour; total annual burden: 850 hours). g. Petitions for Additional Delegation of Numbering Authority—States requesting pooling authority from the FCC must include a showing of specific criteria in their petitions. Each petition must demonstrate that: (1) That an NPA in its state is in jeopardy, (2) the NPA in question has a remaining life span of at least a year, and (3) that NPA is in one of the largest 100 MSAs, or alternatively, the majority of wireline carriers in the NPA are LNP-capable. See also Report and Order, para. 170. (No. of respondents: 50; hours per response: 20 hours; total annual burden: 1000 hours). h. Cost Support Data—Carriers are requested to submit cost support data so that the Commission can determine the cost associated with thousands-block number pooling. Carriers should include an analysis of the differences between the shared industry costs associated with thousands-block number pooling and the shared industry costs, if any, associated with the current practices that result in more frequent area code changes. Carriers should provide cost studies that assign costs according to the following three categories: shared industry costs; carrier-specific costs directly related to thousands/block pooling; and carrier-specific costs not directly related to thousands-block number pooling. See Report and Order, paras. 215-226. (No. of respondents: 1213; hours per response: 40 hours; total annual burden: 48,520 hours). The data collected will be used by the FCC, state regulatory commissions, and the North American Numbering Plan administrator (NANPA) to monitor numbering resource utilization by all carriers using the resource and to project the dates of area code and North American Numbering Plan exhaust. Obligation to respond: Mandatory.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 01-3174 Filed 2-6-01; 8:45 am]

BILLING CODE 6712-01-P